DEPARTMENT OF COMMERCE

Foreign-Trade Zones Board

[B-37-2013]

Foreign-Trade Zone 26—Atlanta, Georgia, Authorization of Production Activity PBR, Inc. d/b/a SKAPS Industries (Polypropylene Geotextiles), Athens, Georgia

On April 8, 2013, Georgia Foreign-Trade Zone, Inc., grantee of FTZ 26, submitted a notification of proposed production activity to the Foreign-Trade Zones (FTZ) Board on behalf of PBR, Inc. d/b/a SKAPS Industries (SKAPS Industries), in Athens, Georgia.

The notification was processed in accordance with the regulations of the FTZ Board (15 CFR part 400), including notice in the Federal Register inviting public comment (78 FR 25253, 4-30-2013). The FTZ Board has determined that no further review of the activity is warranted at this time. The production activity described in the notification is authorized for an initial period of five years (to 8-23-2018), subject to the FTZ Act and the FTZ Board's regulations, including Section 400.14, and further subject to a restriction requiring that SKAPS Industries admit all foreign-status polypropylene fiber to the zone under privileged foreign status (19 CFR 146.41)

Dated: August 23, 2013.
Andrew McGilvray,
Executive Secretary.

[FR Doc. 2013-21235 Filed 8-30-13; 8:45 am]

BILLING CODE 3510-DS-P